DEPARTMENT OF HEALTH AND HUMAN SERVICES

Office of Inspector General

Program Exclusions: July 2006

AGENCY: Office of Inspector General, HHS.

ACTION: Notice of program exclusions.

During the month of July 2006, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

SUBJECT NAME | ADDRESS | EFFECTIVE DATE
PROGRAM-RELATED CONVICTIONS
BABEL, KATHLEEN | ALDERSON, WV | 8/20/2006.
BECK, KIMBERLY | ALDERSON, WV | 8/20/2006.
BROOKLYN MEDICAL ARTS HIV CARE, PC | BROOKLYN, NY | 8/20/2006.
BROOKS, RANDOLPH | HOUSTON, TX | 8/20/2006.
BRYCE-AKERS, PATRICIA | CONVERSE, TX | 8/20/2006.
CLEAR, ROBERT | FORT THOMAS, KY | 8/20/2006.
DAMRON, JASON | QUINCY, KS | 8/20/2006.
DAUS, ARTHUR | LOUISVILLE, KY | 8/20/2006.
DELELLIS PROMOTIONS, INC | TARPON SPRINGS, FL | 8/20/2006.
DELELLIS, CHRISTINE | TARPON SPRINGS, FL | 8/20/2006.
DIAZ-RIOS, PEDRO | HUMACAO, PR | 8/20/2006.
ETUK, EDEM | ATLANTA, GA | 8/20/2006.
ETUK, UKEME | FAIRBURN, GA | 8/20/2006.
GAINES, ABDUL | BUFFALO, NY | 8/20/2006.
HOLMES, MELODY | AUSTELL, GA | 8/20/2006.
KNAPP, DIANNE | PINEVILLE, LA | 8/20/2006.
LOPEZ, ISABEL | AUSTIN, TX | 8/20/2006.
MOON, YOUNG | TALLAHASSEE, FL | 8/20/2006.
NEILSEN, SANDRA | GRANTS PASS, OR | 8/20/2006.
NOBLE, MARK | MANCHESTER, KY | 8/20/2006.
ORTENZIO, LOUIS | SALEM, WV | 8/20/2006.
REED, PATRICIA | NASHVILLE, TN | 8/20/2006.
ROSS, ANTHONY | MILLINGTON, TN | 8/20/2006.
SMITH, RHONDA | FORT WORTH, TX | 8/20/2006.
STAPLES, MELESSA | MIDWEST CITY, OK | 8/20/2006.
VOGELSANG, SCOTT | LOMPOC, CA | 8/20/2006.
WALKER, LARRY | LITTLE ROCK, AR | 8/20/2006.
WALLACE, DONNA | MORONGO VALLEY, CA | 8/20/2006.
WINDER, SARAH | NACOGDOCHES, TX | 8/20/2006.
WRIGHT, MARCELLA | STANTON, KY | 8/20/2006.
YANCEY, GEORGE | FRESNO, CA | 8/20/2006.
FELONY CONVICTION FOR HEALTH CARE FRAUD
DELAVERGNE, JAMES | YELM, WA | 8/20/2006.
DOUGHTY, DEBORAH | BILLERICA, MA | 8/20/2006.
EVERS, LANCE | MILILANI, HI | 8/20/2006.
FLYNN, MADGE | FAYETTEVILLE, NY | 8/20/2006.
GLASS, HAROLD | JACKSONVILLE, FL | 8/20/2006.
GRAHAM, QUEEN | RIVERVIEW, FL | 8/20/2006.
HERNDON, RICHIE | RICHARDSON, TX | 8/20/2006.
LEBLANC, VALERIE | SANFORD, ME | 8/20/2006.
MARTIN-SZYMANSKI, MISTY | FAYETTEVILLE, AR | 8/20/2006.
MCKNIGHT-MAYNARD, JOY | VIRGINIA BEACH, VA | 8/20/2006.
MOORE, LEE | MCALESTER, OK | 8/20/2006.
OULDS, KAREN | OKLAHOMA CITY, OK | 8/20/2006.
PHIEFFER, MICHAEL | DAVENPORT, FL | 8/20/2006.
PINEDA, ELVIRA | HONOLULU, HI | 8/20/2006.
SMITH, ROBERT | DEVENS, MA | 8/20/2006.
SOWLES, CHARLENE | GOODYEAR, AZ | 8/20/2006.
STEPHEN, EARL | DORCHESTER, MA | 8/20/2006.
STRICKLAND, GREG | SNEADS, FL | 8/20/2006.
WILLIAMS, VINETTIA | MILVILLE, NJ | 8/20/2006.
WILLIAMSON, LORENE | PEMBROKE PINES, FL | 8/20/2006.
FELONY CONTROLLED SUBSTANCE CONVICTION
AKERMAN, AMANDA | WOODWARD, OK | 8/20/2006.
BRODIS, RUTH | PLANTATION, FL | 8/20/2006.
COURTNEY, CHERYL | MILTON, FL | 8/20/2006.
DAYLEY, RUTH | ALEDO, TX | 8/20/2006.
HELTON, GARY | PIKEVILLE, TN | 8/20/2006.
HYMAN, DEBORAH | FLEMINGTON, NJ | 8/20/2006.
JONES, MARY | GLENROSE, TX | 8/20/2006.
KRUG, BRENDA | PADUCAH, KY | 8/20/2006.
LAWHON, VANISHA | BRYAN, TX | 8/20/2006.
LIEBERMAN, IRA | GRAND BLANC, MI | 8/20/2006.
PALMER, ADRINA | PRYOR, OK | 8/20/2006.
ROSS, ALDOLFERUS | LAUDERHILL, FL | 8/20/2006.
SCHULTZ, JOYCE | WHITE OAK, TX | 8/20/2006.
STUDER, LISA | YANTIS, TX | 8/20/2006.
PATIENT ABUSE/NEGLECT CONVICTIONS
ACOVERA, MOIME | SAN DIEGO, CA | 8/20/2006.
CARRINGTON, KRISTY | MORRISTOWN, TN | 8/20/2006.
CONGLETON, KIMBERLY | IRVINE, KY | 8/20/2006.
CRAWFORD, KENNETH | PHILLIPSBURG, NJ | 8/20/2006.
ERVIN, THOMAS | CHOCTAW, OK | 8/20/2006.
GROWER, SHERRY | SOMERSWORTH, NH | 8/20/2006.
GUPTA, SUSHIL | HAMDEN, CT | 8/20/2006.
IMPSON, HARRY | OKLAHOMA CITY, OK | 8/20/2006.
JACKSON, HERBERT | MARIANNA, FL | 8/20/2006.
JUNIOUS, ROOSEVELT | ROCHESTER, NY | 8/20/2006.
KILBURN, LISA | IRVINE, KY | 8/20/2006.
LAMPE, ALEXY | HASKELL, TX | 8/20/2006.
LOVE, CHRISTOPER | HOT SPRINGS, AR | 8/20/2006.
MCCOY, BONITA | CONWAY, AR | 8/20/2006.
PHILPOTT, JAMES | GOLDEN, CO | 8/20/2006.
RAMIREZ, DORENE | ALTUS, OK | 8/20/2006.
REED, SHAMIRA | COLUMBUS, MS | 8/20/2006.
SIMMONS, JESSIE | ROCHESTER, NY | 8/20/2006.
SIMON, ARNOLD | SAN DIEGO, CA | 8/20/2006.
CONVICTION FOR HEALTH CARE FRAUD
LUND, LAURA | FT COLLINS, CO | 8/20/2006.
LICENSE REVOCATION/SUSPENSION/SURRENDER
ARMASHI, A HUSSAM | WEEKI WACHEE, FL | 8/20/2006.
ARTERBERRY, LISA | BAKERSFIELD, CA | 8/20/2006.
ASHFORD, DENNIS | S DAYTONA, FL | 8/20/2006.
AVILES, DAVID | ROY, WA | 8/20/2006.
BACON, MELISSA | GUILFORD, VT | 8/20/2006.
BARIEXCA, CARLA | BAYVILLE, NJ | 8/20/2006.
BARNES, JANA | HILLSBORO, OR | 8/20/2006.
BATTLES, STACIE | ANSON, ME | 8/20/2006.
BELL, ROSANNE | ST PETERSBURG, FL | 8/20/2006.
BERNAS, TOMAS | SUGAR LAND, TX | 8/20/2006.
BLANTON, BARBARA | LONDON, KY | 8/20/2006.
BOLIN, LORI | BOYNTON BEACH, FL | 8/20/2006.
BRAUCHLER, LAUREN | LONGMONT, CO | 8/20/2006.
BRISSARD, SUSAN | MATHIS, TX | 8/20/2006.
BURGE, DEBRA | POLARVILLE, MS | 8/20/2006.
BURNS, DANA | GRAND CANE, LA | 8/20/2006.
BUTTERWORTH, JAMES | AUBURNDALE, FL | 8/20/2006.
CALLAHAN, SUSAN | MANSFIELD, OH | 8/20/2006.
CARLIN, ANN | SCRANTON, PA | 8/20/2006.
CAVANAUGH, SUZANNE | WEST BROOKFIELD, MA | 8/20/2006.
CAWTHON, CAROLYN | GRAND PRAIRIE, TX | 8/20/2006.
CHERRY, JAMES | PFAFFTOWN, NC | 8/20/2006.
COOK, SYBIL | WARD, AR | 8/20/2006.
COX, SUSAN | KUTTAWA, KY | 8/20/2006.
CRIPE, DEBORAH | TEMPLE, TX | 8/20/2006.
CURTIS, AUTUMN | TACOMA, WA | 8/20/2006.
DEVORE, LISA | EVERETT, WA | 8/20/2006.
DIAS, JOSE | NEW BEDFORD, MA | 8/20/2006.
DOYON, RAEANN | GORHAM, ME | 8/20/2006.
DRUG ASSIST HEALTH SOLUTIONS, INC | OAKLAND, FL | 8/20/2006.
DUNNAM, LORI | COSBY, TN | 8/20/2006.
FISHER, BEVERLY | VAN BUREN, AR | 8/20/2006.
FOWLER, BOBBY | LAVALETTE, WV | 8/20/2006.
FRANKLIN, AYANNA | HOUSTON, TX | 8/20/2006.
GENNARO, PHILLIP | ELIZABETH, PA | 8/20/2006.
GIBSON, BETH | ELVERSON, PA | 8/20/2006.
HALCOMB, PAMELA | BULAN, KY | 8/20/2006.
HARRIS, JULIE | VACAVILLE, CA | 8/20/2006.
HEWITT, MARY | GAINESVILLE, FL | 8/20/2006.
HIGHTOWER, VIRGINIA | FT MYERS, FL | 8/20/2006.
HOGAN, ANSA | SUGAR LAND, TX | 8/20/2006.
HOLUB, PHILIP | LOUISVILLE, KY | 8/20/2006.
HUTT, JANICE | NORWICH, VT | 8/20/2006.
JAKUBOWSKI, SUSAN | SARVER, PA | 8/20/2006.
JODELKA, ERIK | OAKHURST, NJ | 8/20/2006.
KELLY, JOHN | SMETHPORT, PA | 8/20/2006.
KLING, WESLEY | CRAWFORDVILLE, FL | 8/20/2006.
KNEMOLLER, ROBERT | TOMS RIVER, NJ | 8/20/2006.
KNOWLES, LINDA | LAYTON, UT | 8/20/2006.
KOLASINSKI, JOLDIE | TOLLESON, AZ | 8/20/2006.
KREITEL, JEANETTE | RENNER, SD | 8/20/2006.
KUPSICK, JACKIE | TAHLEQUAH, OK | 8/20/2006.
LAND, CHASSIE | DUNLAP, TN | 8/20/2006.
LANHAM, JOHN | LOUISVILLE, KY | 8/20/2006.
LANIER, TANYA | CLARENDON, NC | 8/20/2006.
LAPRISE, ELIZABETH | JONESTOWN, PA | 8/20/2006.
LENNON, JESSICA | RUTLAND, ME | 8/20/2006.
LEWIS, BRENDOLYN | HIGHLAND SPRINGS, VA | 8/20/2006.
LOWERY, CURTIS | PITTSBURGH, PA | 8/20/2006.
LYONS, JENNIFER | BLUFF CITY, TN | 8/20/2006.
MAIATO, VICTORIA | JOHNSTON, RI | 8/20/2006.
MARES, DANIEL | DENVER, CO | 8/20/2006.
MARILES, MONICA | GLENDALE, AZ | 8/20/2006.
MARION, DONALD | WAYLAND, MA | 8/20/2006.
MARQUEZ, CHRISTINE | PHOENIX, AZ | 8/20/2006.
MASARONE, JOSEPH | SPRINGFIELD, MA | 8/20/2006.
MASCHKE, DAVID | WOODBRIDGE, VA | 8/20/2006.
MASSE, KATHLEEN | LYNN, MA | 8/20/2006.
MCCOY, ELCYE | PHOENIX, AZ | 8/20/2006.
MERRIGAN, MARCIA | PITTSFIELD, MA | 8/20/2006.
MOIR, MARK | LAKE HELEN, FL | 8/20/2006.
MORGAN, ROBERT | ADEL, GA | 8/20/2006.
NEAL, MARY | NICHOLASVILLE, KY | 8/20/2006.
NISIVOCCIA, CHARLES | LITTLE FALLS, NJ | 8/20/2006.
OSTROWSKI, PINKIE | TUCSON, AZ | 8/20/2006.
PAHILAN, ABE | MILLINOCKET, ME | 8/20/2006.
PASATIEMPO, ABNER | BALTIMORE, MD | 8/20/2006.
PINKERMAN, KIMBERLY | ELON COLLEGE, NC | 8/20/2006.
PLEMMONS, KRISTY | LEICESTER, NC | 8/20/2006.
QUINN, LANNA | MOUND HOUSE, NV | 8/20/2006.
RABINOWITZ, DAVID | FAYETTEVILLE, NY | 8/20/2006.
RENBERG, JONATHAN | LAVERGNE, TN | 8/20/2006.
RENDON, LUIS | TUCSON, AZ | 8/20/2006.
ROBINSON, CINDY | LAWRENCEBURG, KY | 8/20/2006.
ROBINSON-FRANCIS, NANCY | BROCKTON, MA | 8/20/2006.
RODRIGUEZ, RUBEN | PHOENIX, AZ | 8/20/2006.
RUBINSTEIN, CHARLES | LINWOOD, NJ | 8/20/2006.
RUIZ, MARIA | PAHRUMP, NV | 8/20/2006.
SABOURIN, PETER | PROVIDENCE, RI | 8/20/2006.
SAGALA, TERRI | EVERETT, WA | 8/20/2006.
SAYEGH, DONNA | PORTSMOUTH, VA | 8/20/2006.
SCHROEDER, CATHERINE | CORAL SPRINGS, FL | 8/20/2006.
SHIELDS, FELICIA | PEORIA, AZ | 8/20/2006.
SPEIER, SUSANA | RANCHO MARGARITA, CA | 8/20/2006.
ST LOUIS, NICHOLAS | BETHEL, ME | 8/20/2006.
SWEENEY, SHAWN | SPOKANE, WA | 8/20/2006.
THIEMSUWAN, CHINDA | LA PALMA, CA | 8/20/2006.
THORNE, THERESA | MAUMELLE, AR | 8/20/2006.
THRAILKILL, PATRICIA | PHOENIX, AZ | 8/20/2006.
TRAYNOR, MARILYN | TUCSON, AZ | 8/20/2006.
TREMBLAY, SARAH | ISLINGTON, MA | 8/20/2006.
VAN PELT, JOHN | ELLSWORTH, ME | 8/20/2006.
VANVALKINBURG, TASHA | MARSHFIELD, VT | 8/20/2006.
VARNEY, JACK | BAGDAD, FL | 8/20/2006.
WEAVER, SHERRY | LEXINGTON, KY | 8/20/2006.
WEISS, JORDAN | COSTA MESA, CA | 8/20/2006.
WELLS, SHARON | LAS VEGAS, NV | 8/20/2006.
WHITNEY, MARIS | LAKE HIAWATHA, NJ | 8/20/2006.
WILLIAMS, ELSWORTH | POMONA, CA | 8/20/2006.
WOODS, CAREN | TUCSON, AZ | 8/20/2006.
FEDERAL/STATE EXCLUSION/SUSPENSION
ANDUJAR, EDWARD | SAN DIEGO, CA | 8/20/2006.
NICHOLSON, BEVERLY | E ORANGE, NJ | 8/20/2006.
FRAUD/KICKBACKS/PROHIBITED ACTS/SETTLEMENT AGREEMENTS
CATES, JACK | SPRINGFIELD, MO | 11/14/2005.
GROUP II MEDICAL SUPPORTS, LLC | BEAVER, WV | 5/12/2006.
LEIGH, RICHARD | GRAND FORKS, ND | 5/3/2006.
MEDICENTER DIABETIC SUPPLY, INC | BOULDER, CO | 11/14/2005.
PREMIUM HEALTH GROUP, INC | MIRAMAR, FL | 1/27/2006.
OWNED/CONTROLLED BY EXCLUDED/CONVICTED INDIVIDUAL
AUGUSTA FOOT CENTER | AUGUSTA, GA | 8/20/2006.
COMMUNITY CHIROPRACTIC | LOS GATOS, CA | 8/20/2006.
FRANK M STRASEK, DPM, INC | ROCKY RIVER, OH | 8/20/2006.
ISLAND CHIROPRACTIC | ALAMEDA, CA | 8/20/2006.
ROBERT T MORGAN, MD, PC | ADEL, GA | 8/20/2006.
SE TEXAS SCHOOL HEALTH & RELATED SERVICES | BEAUMONT, TX | 8/20/2006.
TUCKER PEDIATRICS, P C | TUCKER, GA | 8/20/2006.

Dated: August 2, 2006.
Maureen R. Byer,
Director, Exclusions Staff, Office of Inspector General.

[FR Doc. E6-13019 Filed 8-9-06; 8:45 am]

BILLING CODE 4152-01-P